DEPARTMENT OF HEALTH AND HUMAN SERVICES

National Institutes of Health

Government-Owned Inventions; Availability for Licensing

AGENCY: National Institutes of Health, Public Health Service, HHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Novel Anti-Tumor and Anti-Fungal Compounds Isolated from Plants of the Genus Aniba

R. Shoemaker, E. Sausville, G. Cragg, D. Newman, M. Currens, T. McCloud, P. Klausmeyer, K. Tucker, M. Baseler, G. Chnurny, and W. Bancroft (NCI)

HLtat Cell Line

Barbara K. Felber and George Pavlakis (NCI)

DHHS Reference No. E-273-2003/0 (NIH AIDS Research & Reference Reagent Program catalog number 1293)

Licensing Contact: Susan Ano; 301/435-5515; anos@mail.nih.gov

This cell line contains stably integrated copies of the HIV-1 LTR promoter linked to a synthetic one-exon tat gene. HLtat was generated by cotransfection of HeLa cells with pSV2neo and with pL3tat, which contains the HIV-1 LTR promoter, synthetic first tat exon, and the SV40 polyadenylation signal. Clone HLtat was selected in G418 on the basis of high-level production of the one-exon Tat. The cell line is stable and does not need to be routinely maintained under G418 selection. When transfected with HIV DNA or with any plasmid expressing the gene of interest driven by the HIV LTR promoter, high-level of gene expression is achieved. This cell line is further described in J. Virol 64:3734, 1990; AIDS Res. Ref. Reagent Program Courier 91-01:8, 1991; and J. Virol 64:2519, 1990. This cell line is available for licensing through a Biological Materials License Agreement.

U.S. Provisional Application No. 60/433,489 filed 28 Jan 2003 (DHHS Reference No. E-224-2002/0-US-01)

Licensing Contact: Brenda Hefti; 301/435-4632; heftib@mail.nih.gov

The invention describes separate and combined extracts from two plants of the genus Aniba, and a specific compound possessing and indolizinium core. Both the purified extracts and the pure substituted inolizinium compound were found to inhibit the growth of the azone-resistant fungi C. albicans, certain bacteria, as well as demonstrating a differential response across the NCI human tumor cell line panel with a special sensitivity observed in several leukemia cell lines.

Cloning and Characterization of VIAF in Several Organisms

Colin S. Duckett, Bettina M. Richter (NCI)

U.S. Provisional Application No. 60/163,748 filed 05 Nov 1999 (DHHS Reference No. E-016-2000/0-US-01), PCT/US00/20576 filed 28 Jul 2000 (DHHS Reference No. E-016-2000/0-PCT-02), U.S. Patent Application No. 10/129,424 filed 03 May 2002 (DHHS Reference No. E-016-2000/0-US-03)

Licensing Contact: Matthew Kiser; 301/435-5236; e-mail: kiserm@mail.nih.gov

The process of apoptosis, or programmed cell death, can be utilized to eliminate unwanted cells, and it can occur during embryogenesis, turnover of senescent cells or metamorphosis. It can also be part of a defense mechanism against pathogens, e.g., viruses, by allowing the host organism to eliminate infected cells. In an attempt to circumvent this defense mechanism, pathogens can produce gene products that block these apoptotic pathways. For example, O. pseudotsugata expresses a family of inhibitors of apoptosis proteins (IAP), and experimental data suggests that these IAPs can play a role in the protection from cellular apoptosis. This application claims nucleic acid and amino acid sequences corresponding to a viral IAP-associated factor, or VIAF. The gene and its product may enhance the anti-apoptotic properties of IAPs although the exact mechanism of this interaction is not clear. This technology could be used to treat disease states where VIAF is under-expressed, e.g., breast adenocarcinomas, where there is an over-expression of VIAF, e.g., neurodegenerative diseases and where apoptosis is undesired, e.g., AIDS and autoimmune diseases. Additional information may be found in Duckett, CS, “Novel modulators of the apoptotic cell death pathway,” Mol. Biol. Cell 12: 732 Suppl. S Nov 2001.

Dated: September 16, 2003.
Steven M. Ferguson,
Director, Division of Technology Development and Transfer, Office of Technology Transfer, National Institutes of Health.

[FR Doc. 03-24192 Filed 9-24-03; 8:45 am]

BILLING CODE 4140-01-P